DEPARTMENT OF LABOR

Office of the Secretary

Agency Information Collection Activities; Submission for OMB Review; Comment Request; YouthBuild Site Visit Protocols

ACTION: Notice.

SUMMARY: The Department of Labor (DOL) is submitting the Employment and Training Administration (ETA) sponsored information collection request (ICR) proposal titled, “YouthBuild Site Visit Protocols,” to the Office of Management and Budget (OMB) for review and approval for use in accordance with the Paperwork Reduction Act (PRA) of 1995.

DATES: Submit comments on or before August 23, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-ETA, Office of Management and Budget, Room 10235, 725 17th Street NW., Washington, DC 20503, Telephone: 202-395-6929/Fax: 202-395-6881 (these are not toll-free numbers), email: OIRA_submission@omb.eop.gov.

FOR FURTHER INFORMATION CONTACT: Michel Smyth by telephone at 202-693-4129 (this is not a toll-free number) or by email at DOL_PRA_PUBLIC@dol.gov.

Authority: 44 U.S.C. 3507(a)(1)(D).

SUPPLEMENTARY INFORMATION: The YouthBuild Program Impact Evaluation is a seven-year, experimental design evaluation, funded by the ETA and the Corporation for National and Community Service (CNCS). The YouthBuild Program is a youth and community development program that addresses several core issues facing low-income communities: youth education, employment, criminal behavior, social and emotional development, and affordable housing. The program primarily serves high school dropouts and focuses on helping them attain a high school diploma or general educational development certificate, and teaching them construction skills geared toward career placement. The YouthBuild program evaluation represents an important opportunity for the DOL and CNCS to add to the growing body of knowledge about the impacts of so-called “second chance” programs for youth who have dropped out of high school. Compared to peers who remain in school, high school dropouts are more likely to be disconnected from school and work, to be incarcerated, to be unmarried, and to have children outside of marriage. The target population for the program, and correspondingly the study, is out-of-school youth, aged 16-24, from low-income families or in foster care and who are offenders, migrants, disabled, or children of incarcerated parents.

The DOL has submitted several ICRs to the OMB for approval as part of the overall YouthBuild evaluation, because data collected through the initial stages inform the development of the subsequent data collection instruments. This particular ICR pertains only to site visit protocols. For additional information, see the related notice published in the Federal Register on February 8, 2012.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6.

Interested parties are encouraged to send comments to the OMB, Office of Information and Regulatory Affairs at the address shown in the ADDRESSES section within 30 days of publication of this notice in the Federal Register. In order to help ensure appropriate consideration, comments should mention OMB ICR Reference Number 201202-1205-002. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: YouthBuild Site Visit Protocols.

OMB ICR Number: 201202-1205-002.

Affected Public: Individuals or Households and Private Sector—not-for-profit institutions.

Total Estimated Number of Respondents: 396.

Total Estimated Number of Responses: 1,309.

Total Estimated Annual Burden Hours: 1,209.

Total Estimated Annual Other Costs Burden: $0.

Dated: July 17, 2012.
Michel Smyth,
Departmental Clearance Officer.

[FR Doc. 2012-18001 Filed 7-23-12; 8:45 a.m.]

BILLING CODE 4510-FN-P